NUCLEAR REGULATORY COMMISSION

Notice of Issuance of Director's Decision Under 10 CFR 2.206

Notice is hereby given that the Director, Office of Nuclear Reactor Regulation, U.S. Nuclear Regulatory Commission (NRC or Commission) has issued a Director's Decision with regard to a Petition dated January 25, 2006, filed pursuant to Section 2.206 of Title 10 of the Code of Federal Regulations (10 CFR) by the Union of Concerned Scientists and numerous other organizations and individuals, hereinafter referred to as the “Petitioners.” The Petition concerns leaks of radioactively contaminated water into the ground around NRC-licensed facilities.

The Petition requested that the NRC take immediate action to issue Demands for Information (DFIs) to research, test, and power reactors to obtain responses to specific questions regarding leaks or potential leaks of radioactively contaminated water into the ground.

As the basis for their request, the Petitioners pointed to radioactive leaks found during the last few years at several nuclear power plants.

By teleconference on April 5, 2006, the Petitioners discussed the Petition with the NRC's Petition Review Board. This teleconference gave the Petitioners an opportunity to provide additional information and to clarify issues raised in the Petition.

The NRC staff sent a copy of the proposed Director's Decision to the Petitioners and to the Nuclear Energy Institute for comment by letters dated June 28, 2006. The Petitioners submitted comments by letter dated July 20, 2006, and these comments are addressed in the final Director's Decision.

The Director of the Office of Nuclear Reactor Regulation has determined that the Petitioners' request to obtain information on groundwater contamination is granted, in part. The request to obtain the information by issuing DFIs is denied. The reasons for this decision are explained in the Director's Decision pursuant to 10 CFR 2.206 (DD-06-03), the complete text of which is available for inspection at the Commission's Public Document Room, located at One White Flint North, Public File Area O1 F21, 11555 Rockville Pike (first floor), Rockville, Maryland, or electronically from the Agencywide Documents Access and Management System (ADAMS) Public Electronic Reading Room on the NRC Web site at http://www.nrc.gov/reading-rm/adams.html.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 2nd day of November, 2006.
For the Nuclear Regulatory Commission.
J.E. Dyer,
Director, Office of Nuclear Reactor Regulation.

[FR Doc. E6-18980 Filed 11-8-06; 8:45 am]

BILLING CODE 7590-01-P